DEPARTMENT OF EDUCATION

[Docket No.: ED-2021-SCC-0032]

Agency Information Collection Activities; Comment Request; Title I, Part A Accountability Waiver Requests for School Year 2020-2021

AGENCY: Office of Elementary and Secondary Education (OESE), Department of Education (ED).

ACTION: Notice.

SUMMARY: In accordance with the Paperwork Reduction Act of 1995, ED is requesting the Office of Management and Budget (OMB) to conduct an emergency review of a new collection.

DATES: The Department has requested emergency processing from OMB for this information collection request by March 4, 2021; and therefore, the regular clearance process is hereby being initiated to provide the public with the opportunity to comment under the full comment period. Interested persons are invited to submit comments on or before May 7, 2021.

ADDRESSES: To access and review all the documents related to the information collection listed in this notice, please use http://www.regulations.gov by searching the Docket ID number ED-2021-SCC-0032. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave. SW, LBJ, Room 6W208D, Washington, DC 20202-8240.

FOR FURTHER INFORMATION CONTACT: For specific questions related to collection activities, please contact Melissa Siry, (202) 260-0926.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Title I, Part A Accountability Waiver Requests for School Year 2020-2021.

OMB Control Number: 1810-NEW.

Type of Review: New collection.

Respondents/Affected Public: State, Local, and Tribal Governments.

Total Estimated Number of Annual Responses: 53.

Total Estimated Number of Annual Burden Hours: 159.

Abstract: On February 22, 2021 the U.S. Department of Education (the Department) invited waivers for the 2020-2021 school year of accountability, school identification, and related reporting requirements under Title I of the Elementary and Secondary Education Act of 1965, as amended by the Every Student Succeeds Act (ESEA), pursuant to the Department's authority under section 8401 of the ESEA. The purpose for this new collection is collect waiver requests from each State education agency wishing to use the provided waiver template.

Additional Information: The Department is providing a streamlined process for SEA waiver requests that will speed the process for both the SEA and the Department and help ensure State and local staff are able to maintain focus on the pressing needs of students. Any additional delay will have a negative impact on schools and students. In order to reduce the burden on States, the Department has created an optional template for States to collect the information required under ESEA section 8401 to request waivers of accountability, school identification, and related reporting requirements. The optional template requests only information that is required under ESEA section 8401.

Dated: March 3, 2021.
Kate Mullan,
PRA Coordinator, Strategic Collections and Clearance Governance and Strategy Division, Office of Chief Data Officer, Office of Planning, Evaluation and Policy Development.

[FR Doc. 2021-04703 Filed 3-5-21; 8:45 am]

BILLING CODE 4000-01-P